DEPARTMENT OF TRANSPORTATION

Federal Highway Administration

[Docket No. FHWA-2004-19524]

Agency Information Collection Activities; Request for Comments; Renewed Approval of an Information Collection; FHWA Highway Design Handbook for Older Drivers and Pedestrians Workshop Participants' Feedback Survey

AGENCY: Federal Highway Administration (FHWA), DOT.

ACTION: Notice and request for comments.

SUMMARY: The FHWA invites public comments about our intention to request the Office of Management and Budget's (OMB) approval to renew an information collection, which is summarized below under Supplementary Information. We are required to publish this notice in the Federal Register by the Paperwork Reduction Act of 1995.

DATES: Please submit comments by January 4, 2005.

ADDRESSES: You may submit comments identified by DOT DMS Docket Number FHWA-2004-19524 by any of the following methods:

• Web site: http://dms.dot.gov. Follow the instructions for submitting comments on the DOT electronic docket site.

• Fax: 1-202-493-2251.

• Mail: Docket Management Facility; U.S. Department of Transportation, 400 Seventh Street, SW., Nassif Building, Room PL-401, Washington, DC 20590.

• Hand Delivery: Room PL-401 on the plaza level of the Nassif Building, 400 Seventh Street, SW., Washington, DC, between 9 a.m. and 5 p.m., Monday through Friday, except Federal holidays.

Docket: For access to the docket to read background documents or comments received, go to http://dms.dot.gov at any time or to Room PL-401 on the plaza level of the Nassif Building, 400 Seventh Street, SW., Washington, DC, between 9 a.m. and 5 p.m., Monday through Friday, except Federal holidays.

FOR FURTHER INFORMATION CONTACT: Ms. Shirley Thompson, 202-366-2154, Office of Safety, Federal Highway Administration, Department of Transportation, 400 Seventh Street, SW., Washington, DC 20590. Office hours are from 7:30 a.m. to 5 p.m., Monday through Friday, except Federal holidays.

SUPPLEMENTARY INFORMATION: Title: FHWA Highway Design Handbook For Older Drivers and Pedestrians Workshop Participants' Feedback Survey.

Background: This information collection involves a survey of participants who have attended the FHWA Highway Design Handbook For Older Drivers and Pedestrians Workshop, to determine the extent of use and barriers to the recommendations and guidelines discussed in the handbook and workshop. The FHWA had developed and published in 1998 an “Older Driver Highway Design Handbook, Recommendation and Guidelines” for highway designers, traffic engineers, and highway safety specialists involved in the design and operation of highway facilities. The handbook provides information about the characteristics of the older driver road user to highway design, operational, and traffic engineering practitioners by addressing specific roadway features. A revised handbook, “Guidelines and Recommendations to Accommodate Older Drivers and Pedestrians,” was published in 2001 that documents new research findings and technical developments since the 1998 publication. A series of workshops began in 1998 to familiarize practitioners with the recommendations and guidelines. Workshops continue to be held to provide information to practitioners from the revised handbook.

This survey is needed to determine if recommendations and guidelines presented to practitioners in past workshops are being utilized in new and redesigned highway facilities to accommodate the needs and functional limitations of an aging population of road users. The survey is also needed to gauge the success of the workshop presentations in providing information, and to determine if adjustments should be considered for future workshops. The survey will be mailed, and for those participants with known e-mail addresses, the survey will be administered electronically to reduce completion time.

Respondents: Participants in past workshops, including highway designers, highway engineers and highway safety specialists.

Frequency: A survey of approximately 250 past workshop participants will be conducted annually.

Estimated Total Annual Burden Hours: The FHWA estimates that each respondent will complete the survey in approximately 10 minutes. The annual surveys to approximately 250 respondents are estimated at 42 burden hours.

Public Comments Invited

You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. The agency will summarize and/or include your comments in the request for OMB's clearance of this information collection.

Privacy Act

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

Authority: The Paperwork Reduction Act of 1995; 44 U.S.C. Chapter 35, as amended; and 49 CFR 1.48.

Issued on: October 29, 2004.
James R. Kabel,
Chief, Management Programs and Analysis Division.

[FR Doc. 04-24691 Filed 11-4-04; 8:45 am]

BILLING CODE 4910-22-P